COMMISSION ON CIVIL RIGHTS

Notice of Public Meeting of the Oklahoma Advisory Committee for a Meeting To Hear Testimony on Civil Rights Concerns School-to-Prison Pipeline in Oklahoma

AGENCY: U.S. Commission on Civil Rights.

ACTION: Announcement of meeting.

SUMMARY: Notice is hereby given, pursuant to the provisions of the rules and regulations of the U.S. Commission on Civil Rights (Commission) and the Federal Advisory Committee Act that the Mississippi Advisory Committee (Committee) will hold a meeting on Friday, August 28, 2015, at 10:30 a.m. CDT for the purpose of hearing testimony on civil rights concerns relating to school-to-prison pipeline in Oklahoma on the basis of race or color. The testimony heard during this meeting will be used to prepare the Committee for its in person meeting on September 11, 2015, in Oklahoma City where it will hear from community members and other stakeholders on the same topic.

Members of the public can listen to the discussion. This meeting is available to the public through the following toll-free call-in number: 888-337-8198, conference ID: 6979265. Any interested member of the public may call this number and listen to the meeting. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also invited and welcomed to make statements at the end of the conference call. In addition, members of the public may submit written comments; the comments must be received in the regional office by June 13, 2015. Written comments may be mailed to the Midwestern Regional Office, U.S. Commission on Civil Rights, 55 W. Monroe St., Suite 410, Chicago, IL 60615. They may also be faxed to the Commission at (312) 353-8324, or emailed to Administrative Assistant, Carolyn Allen at callen@usccr.gov. Persons who desire additional information may contact the Midwestern Regional Office at (312) 353-8311.

Records and documents discussed during the meeting will be available for public viewing prior to and after the meeting at http://facadatabase.gov/committee/meetings.aspx?cid=269 and clicking on the “Meeting Details” and “Documents” links. Records generated from this meeting may also be inspected and reproduced at the Regional Programs Unit, as they become available, both before and after the meeting. Persons interested in the work of this Committee are directed to the Commission's Web site, http://www.usccr.gov, or may contact the Midwestern Regional Office at the above email or street address.

Agenda

Welcome and Introductions

10:30 a.m. to 10:35 a.m.

Vicki Limas, Chair

Panel Presentations on School-to-Prison Pipeline in Oklahoma

10:35 a.m. to 11:30 a.m.

Question and Answer Session with OK Advisory Committee

11:30 a.m. to 11:50 a.m.

Open Comment

11:50 a.m. to 12:00 p.m.

Adjournment

12:00 p.m.

DATES: The meeting will be held on Friday, August 28, 2015, at 10:30 a.m. CDT.

PUBLIC CALL INFORMATION: Dial: 888-337-8198, Conference ID: 6979265.

FOR FURTHER INFORMATION CONTACT: Melissa Wojnaroski, DFO, at 312-353-8311 or mwojnaroski@usccr.gov.

Dated July 8, 2015.
David Mussatt,
Chief, Regional Programs Unit.

[FR Doc. 2015-17077 Filed 7-13-15; 8:45 am]

BILLING CODE 6335-01-P